DEPARTMENT OF TRANSPORTATION

Federal Motor Carrier Safety Administration

[Docket No. FMCSA-2023-0143]

Request for Information: Drivers' Leasing Agreements for Commercial Motor Vehicles (CMVs)

AGENCY: Federal Motor Carrier Safety Administration (FMCSA), Department of Transportation (DOT).

ACTION: Notice; extension of comment period.

SUMMARY: FMCSA extends the comment period for its February 16, 2024, notice requesting information from the public, including commercial motor vehicle drivers, to assist the Agency's Truck Leasing Task Force in reviewing such leases to identify terms and conditions that may be unfair to drivers. FMCSA extends the comment period until April 2, 2024.

DATES: The comment period for the request for information published February 16, 2024, at 89 FR 12411, is extended. Comments should be received on or before April 2, 2024.

ADDRESSES: You may submit comments identified by Docket Number FMCSA-2023-0143 using any of the following methods:

• Federal eRulemaking Portal: Go to https://www.regulations.gov/docket/FMCSA-2023-0143/document. Follow the online instructions for submitting comments.

• Mail: Dockets Operations, U.S. Department of Transportation, 1200 New Jersey Avenue SE, West Building, Ground Floor, Washington, DC 20590-0001.

• Hand Delivery or Courier: Dockets Operations, U.S. Department of Transportation, West Building, Ground Floor, 1200 New Jersey Avenue SE, Washington, DC, between 9 a.m. and 5 p.m., Monday through Friday, except Federal holidays.

• Fax: (202) 493-2251.

• Submissions Containing Confidential Business Information (CBI): Brian Dahlin, Chief, Regulatory Evaluation Division, Federal Motor Carrier Safety Administration, 1200 New Jersey Avenue SE, Washington, DC 20590.

To avoid duplication, please use only one of these four methods. See the “Confidential Business Information” portion of the SUPPLEMENTARY INFORMATION section for instructions on submitting comments.

FOR FURTHER INFORMATION CONTACT: Shannon L. Watson, Senior Advisor to the Associate Administrator for Policy and Deputy Designated Federal Officer, Truck Leasing Task Force (TLTF), Federal Motor Carrier Safety Administration, 1200 New Jersey Avenue SE, Washington, DC 20590-0001; (202) 360-2925; TLTF@dot.gov. If you have questions on viewing or submitting material to the docket, contact Dockets Operations, (202) 366-9826.

SUPPLEMENTARY INFORMATION:

A. Submitting Comments

If you submit a comment, please include the docket number for this request for information (RFI) (FMCSA-2023-0143), indicate the specific section of this document to which your comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to https://www.regulations.gov/docket/FMCSA-2023-0143/document, click on this RFI, click “Comment,” and type your comment into the text box on the following screen.

If you submit your comments by mail or hand delivery, submit them in an unbound format, no larger than 8½ by 11 inches, suitable for copying and electronic filing. FMCSA will consider all comments and material received during the comment period.

Confidential Business Information (CBI)

CBI is commercial or financial information that is both customarily and actually treated as private by its owner. Under the Freedom of Information Act (5 U.S.C. 552), CBI is exempt from public disclosure. If your comments responsive to the RFI contain commercial or financial information that is customarily treated as private, that you actually treat as private, it is important that you clearly designate the submitted comments as CBI. Please mark each page of your submission that constitutes CBI as “PROPIN” to indicate it contains proprietary information. FMCSA will treat such marked submissions as confidential under the Freedom of Information Act, and they will not be placed in the public docket of the RFI. Submissions containing CBI should be sent to Brian Dahlin, Chief, Regulatory Analysis Division, Office of Policy, Federal Motor Carrier Safety Administration, 1200 New Jersey Avenue SE, Washington, DC 20590-0001. Any comments FMCSA receives not specifically designated as CBI will be placed in the public docket.

B. Viewing Comments and Documents

To view comments, as well as any documents mentioned in this RFI as being available in the docket, go to https://www.regulations.gov/docket/FMCSA-2023-0143/document and choose the document to review. To view comments, click this RFI, and click “Browse Comments.” If you do not have access to the internet, you may view the docket online by visiting Dockets Operations on the ground floor of the DOT West Building, 1200 New Jersey Avenue SE, Washington, DC 20590, between 9 a.m. and 5 p.m., Monday through Friday, except Federal holidays. To be sure someone is there to help you, please call (202) 366-9317 or (202) 366-9826 before visiting Dockets Operations.

C. Privacy Act

DOT posts comments received, including any personal information the commenter provides, to www.regulations.gov, as described in the system of records notice (DOT/ALL-14 FDMS), which can be reviewed at www.transportation.gov/privacy. The comments are posted without edit and are searchable by the name of the submitter.

I. Background

On February 16, 2024, FMCSA published a notice in the Federal Register requesting information from the public, including commercial motor vehicle (CMV) drivers, to assist the Agency's Truck Leasing Task Force (TLTF) in reviewing such leases to identify terms and conditions that may be unfair to drivers.

The Owner-Operator Independent Drivers Association (OOIDA) filed a comment to the public docket requesting that the comment period be extended. OOIDA stated:

This will give drivers and other members of the public sufficient time to collect and submit leasing information. We also believe extending the comment period will allow feedback from OOIDA members and other drivers who will be attending the Mid-America Trucking Show that will be held March 21st through 23rd in Louisville, Kentucky.

FMCSA believes it appropriate to extend the March 18, 2024, deadline to provide interested parties additional time to submit responses to the docket. Therefore, FMCSA extends the comment period until April 2, 2024.

Larry W. Minor,
Associate Administrator for Policy.

[FR Doc. 2024-05342 Filed 3-12-24; 8:45 am]

BILLING CODE 4910-EX-P